DEPARTMENT OF THE INTERIOR

Bureau of Indian Affairs

[201A2100DD/AAKC001030/A0A51010.999900]

Land Acquisitions; Jamestown S'Klallam Tribe

AGENCY: Bureau of Indian Affairs, Interior.

ACTION: Notice.

SUMMARY: The Assistant Secretary—Indian Affairs has made a final determination to acquire 44.10 acres, more or less, into trust for the Jamestown S'Klallam Tribe.

DATES: The Assistant Secretary—Indian Affairs made the final determination on September 1, 2020.

FOR FURTHER INFORMATION CONTACT: Ms. Sharlene M. Round Face, Bureau of Indian Affairs, Division of Real Estate Services, 1001 Indian School Road NW, Albuquerque, NM 87104, telephone (505) 563-3132.

SUPPLEMENTARY INFORMATION: This notice is published in the exercise of authority delegated by the Secretary of the Interior to the Assistant Secretary—Indian Affairs by part 209 of the Departmental Manual, and is published to comply with the requirement of 25 CFR 151.12(c)(2)(ii) that notice of the decision to acquire land in trust be promptly published in the Federal Register.

On the date listed in the DATES section of this notice, the Assistant Secretary—Indian Affairs issued a decision to accept land in trust for the Jamestown S'Klallam Tribe under the authority of Section 5 of the Indian Reorganization Act of 1934 (48 Stat. 984).

The Jamestown S'Klallam Tribe

Clallam County, Washington

Legal Description Containing 44.10 Acres, More or Less

Parcel 9

PARCELS 1, 2, 3, AND 7 OF SURVEY RECORDED DECEMBER 22, 1989 IN VOLUME 16 OF SURVEYS, PAGE 96, UNDER AUDITOR'S FILE NO. 626555, BEING A PORTION OF THE SOUTHEAST QUARTER OF THE NORTHWEST QUARTER OF SECTION 32, TOWNSHIP 30 NORTH, RANGE 2 WEST, W.M., CLALLAM COUNTY, WASHINGTON;

TOGETHER WITH THAT PORTION OF THE NORTHWEST QUARTER OF SAID SECTION 22, TOWNSHIP 30 NORTH, RANGE 2 WEST, W.M., AWARDED TO JAMESTOWN S'KLALLAM TRIBE, A TRIBAL GOVERNMENT, BY JUDGEMENT FILED OCTOBER 4, 2017, IN CLALLAM COUNTY SUPERIOR COURT CAUSE NO. 17-2-00622-2.

TOGETHER WITH THOSE PORTIONS LYING SOUTHERLY OF THE LINE AS MONUMENTED, DESCRIBED AND SHOWN ON SURVEY RECORDED MARCH 16, 2018, IN VOLUME 81 OF SURVEYS, PAGE 98, UNDER CLALLAM COUNTY RECORDING NO. 2018-1362091, AND CONVEYED TO JAMESTOWN S'KLALLAM TRIBE, A TRIBAL GOVERNMENT, BY BOUNDARY LOCATION AGREEMENT RECORDED MARCH 16, 2018, UNDER CLALLAM COUNTY AUDITOR'S FILE NO. 2018-1362092.

EXCEPT THE EAST 8 FEET OF SAID SOUTHEAST QUARTER OF THE NORTHWEST QUARTER.

AND EXCEPT THOSE PORTIONS LYING NORTHERLY OF THE LINE AS MONUMENTED, DESCRIBED AND SHOWN ON SURVEY RECORDED MARCH 16, 2018, IN VOLUME 81 OF SURVEYS, PAGE 98, UNDER CLALLAM COUNTY RECORDING NO. 2018-1362091, AND CONVEYED TO DONALD KNAPP, BY BOUNDARY LOCATION AGREEMENT RECORDED MARCH 16, 2018, UNDER CLALLAM COUNTY AUDITOR'S FILE NO. 2018-1362092.

Parcel 10

PARCELS 4, 5, AND 6 OF SURVEY RECORDED DECEMBER 22, 1989 IN VOLUME 16 OF SURVEYS, PAGE 96, UNDER AUDITOR'S FILE NO. 626555, BEING A PORTION OF THE SOUTHEAST QUARTER OF THE NORTHWEST QUARTER OF SECTION 32, TOWNSHIP 30 NORTH, RANGE 2 WEST, W.M., CLALLAM COUNTY, WASHINGTON.

TOGETHER WITH THAT PORTION OF THE NORTHWEST QUARTER OF SAID SECTION 22, TOWNSHIP 30 NORTH, RANGE 2 WEST, W.M., AWARDED TO JAMESTOWN S'KLALLAM TRIBE, A TRIBAL GOVERNMENT, BY JUDGEMENT FILED OCTOBER 4, 2017, IN CLALLAM COUNTY SUPERIOR COURT CAUSE NO. 17-2-00622-2.

TOGETHER WITH THOSE PORTIONS LYING EASTERLY OF THE LINE AS MONUMENTED, DESCRIBED AND SHOWN ON SURVEY RECORDED MARCH 16, 2018, IN VOLUME 81 OF SURVEYS, PAGE 98, UNDER CLALLAM COUNTY RECORDING NO. 2018-1362091, AND CONVEYED TO JAMESTOWN S'KLALLAM TRIBE, A TRIBAL GOVERNMENT, BY BOUNDARY LOCATION AGREEMENT RECORDED MARCH 16, 2018, UNDER CLALLAM COUNTY AUDITOR'S FILE NO. 2018-1362092.

EXCEPT THOSE PORTIONS LYING WESTERLY OF THE LINE AS MONUMENTED, DESCRIBED AND SHOWN ON SURVEY RECORDED MARCH 16, 2018, IN VOLUME 81 OF SURVEYS, PAGE 98, UNDER CLALLAM COUNTY RECORDING NO. 2018-1362091, AND CONVEYED TO JANET N. EMERSON, BY BOUNDARY LOCATION AGREEMENT RECORDED MARCH 16, 2018, UNDER CLALLAM COUNTY AUDITOR'S FILE NO. 2018-1362092.

AND EXCEPT THOSE PORTIONS LYING NORTHERLY OF THE LINE AS MONUMENTED, DESCRIBED AND SHOWN ON SURVEY RECORDED MARCH 16, 2018, IN VOLUME 81 OF SURVEYS, PAGE 98, UNDER CLALLAM COUNTY RECORDING NO. 2018-1362091, AND CONVEYED TO DONALD KNAPP, BY BOUNDARY LOCATION AGREEMENT RECORDED MARCH 16, 2018, UNDER CLALLAM COUNTY AUDITOR'S FILE NO. 2018-1362092.

Parcel 11

THE WEST HALF OF THE SOUTHWEST QUARTER OF THE NORTHEAST QUARTER OF THE NORTHWEST QUARTER OF SECTION 32, TOWNSHIP 30 NORTH, RANGE 2 WEST, W.M., CLALLAM COUNTY, WASHINGTON.

TOGETHER WITH THOSE PORTIONS LYING EASTERLY OF THE LINE AS MONUMENTED, DESCRIBED AND SHOWN ON SURVEY RECORDED MARCH 16, 2018, IN VOLUME 81 OF SURVEYS, PAGE 98, UNDER CLALLAM COUNTY RECORDING NO. 2018-1362091, AND CONVEYED TO JAMESTOWN S'KLALLAM TRIBE, A TRIBAL GOVERNMENT, BY BOUNDARY LOCATION AGREEMENT RECORDED MARCH 16, 2018, UNDER CLALLAM COUNTY AUDITOR'S FILE NO. 2018-1362092.

SITUATE IN CLALLAM COUNTY, STATE OF WASHINGTON. PCLS 1,2,3, & 7 SVY V16 96 EXC PTN; PCLS 4, 5, & 6 SVY V16 P96; PTN NE4NW4 232 T30N R2WWM & PTN SW4NW4 S33 T30N R2WWM.

Tara Sweeney,
Assistant Secretary—Indian Affairs.

[FR Doc. 2020-19706 Filed 9-4-20; 8:45 am]

BILLING CODE 4337-15-P